DEPARTMENT OF HEALTH AND HUMAN SERVICES

Food and Drug Administration

21 CFR Parts 606, 610, and 640

[Docket No. FDA-2003-N-0097; Formerly 2003N-0211]

Revisions to Labeling Requirements for Blood and Blood Components, Including Source Plasma; Correction

AGENCY: Food and Drug Administration, HHS.

ACTION: Final rule; correction.

SUMMARY: The Food and Drug Administration (FDA) is correcting a final rule that appeared in the Federal Register of January 3, 2012. In the Federal Register of January 3, 2012, FDA published a final rule entitled “Revisions to Labeling Requirements for Blood and Blood Components, Including Source Plasma,” which provided incorrect publication information regarding a 60-day notice that announced the availability of an opportunity for public comment on the proposed collection of certain information by FDA pertaining to the final rule. This document corrects this error. Elsewhere in this issue of the Federal Register, FDA is publishing a companion 60-day correction notice.

DATES: This rule is effective July 2, 2012.

FOR FURTHER INFORMATION CONTACT: Joyce Strong, Office of Policy, Food and Drug Administration, 10903 New Hampshire Ave., Bldg. 32, rm. 3208, Silver Spring, MD 20993-0002, (301) 796-9148.

SUPPLEMENTARY INFORMATION: In the FR Doc. 2011-33554, appearing on page 7 in the Federal Register of Tuesday, January 3, 2012 (77 FR 7), the following correction is made:

1. On page 15, in the third column, in the third full paragraph, the first sentence is corrected to read: “To comply with section 3506(c)(2)(A) of the PRA (44 U.S.C. 3506(c)(2)(A)), FDA published a notice of proposed collection of information on December 30, 2011.” We are making this change because the notice of proposed collection inadvertently did not publish on January 3, 2012.

Dated: February 2, 2012.
Leslie Kux,
Acting Assistant Commissioner for Policy.

[FR Doc. 2012-2828 Filed 2-7-12; 8:45 am]

BILLING CODE 4160-01-P